NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before April 21, 2011. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001

E-mail: request.schedule@nara.gov.

FAX: 301-837-3698

Requesters must cite the control number, which appears in parentheses after the name of the agency which submitted the schedule, and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1225.12(e).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Agriculture, Agricultural Marketing Service (N1-136-10-1, 2 items, 2 temporary items). Records of the agency Web sites, including site content that is not unique, site management documentation, and operations records. Web content that is unique is either covered by previously approved schedules or will be scheduled in the future.

2. Department of Agriculture, Grain Inspection, Packers, and Stockyards Administration (N1-545-07-1, 19 items, 15 temporary items). Administrative records pertaining to management services such as procurement and property, budget and payroll, accounting and finance, information and communications, personnel administration, data processing, records management, and records on the development of administrative procedures. Proposed for permanent retention are statistical reports, organizational charts, and projects having precedential significance.

3. Department of Commerce, Bureau of the Census (N1-29-10-2, 10 items, 7 temporary items). Records of an electronic information system containing lists of business establishments and their domestic parent enterprises. Records include system and program code files, data input files, parameter files, audit trail files, system test, research and query files, and special tabulations, and system backup files. Proposed for permanent retention are final data files, economic census data capture staging tables, and data documentation.

4. Department of Defense, Missile Defense Agency (N1-565-08-28, 18 items, 13 temporary items). Records relating to research and development for missile defense systems. Included are interim program reviews, project files, laboratory notebooks, interim technical reports, engineering drawings of minor components, scientific data, engineering change proposals, and preliminary threat assessments. Proposed for permanent retention are formal program reviews, final technical reports, engineering drawings of major components, final threat assessments, and final reports on advanced technology.

5. Department of Health and Human Services, Agency for Healthcare Research and Quality (N1-510-09-9, 3 items, 3 temporary items). Master files of an electronic information system containing citations and summaries of resources on patient safety, as well as articles and resources for a web-based morbidity and mortality rounds community.

6. Department of Homeland Security, Transportation Security Administration (N1-560-10-1, 6 items, 6 temporary items). Administrative records including contact lists, internal and external management surveys, hand receipts for property issuances, access requests, and documents assigning employee roles.

7. Department of the Interior, Office of the Secretary (N1-48-10-3, 6 items, 5 temporary items). Office of the Inspector General files consisting of investigative records, review report summaries, action files, compliance reviews, and other supporting documents. Proposed for permanent retention are investigative records of continuing historical value.

8. Department of the Interior, Office of the Secretary (N1-48-11-4, 1 item, 1 temporary item). Suspension and debarment files of the Acquisition and Property Management Office consisting of memorandums, correspondence, case submissions, transcripts, administrative agreements, and other related documents.

9. Department of the Interior, Office of the Special Trustee for American Indians (N1-75-09-6, 7 items, 1 temporary item). Records of the Office of Appraisal Services. Including non-archival quality scanned images of appraisal request documents. Proposed for permanent retention are program correspondence files, policy and directives, case and work files, data compilation reports, and archival quality scanned images of appraisal requests.

10. Department of Justice, Federal Bureau of Investigation (N1-65-10-35, 3 items, 3 temporary items). Master files, audit logs, and related records of an electronic information system containing information on collected and seized software applications used to facilitate a criminal act.

11. Department of Justice, Federal Bureau of Investigation (N1-65-10-40, 3 items, 2 temporary items). Master files of an electronic information system used to manage case workflow, including electronic versions of case files and indices for cases previously approved as temporary. Proposed for permanent retention are electronic versions of case files and indices for cases previously approved as permanent

12. Department of Justice, Justice Management Division (N1-60-10-24, 4 items, 4 temporary items). Program files of the Office of General Counsel, including opinions issued regarding issues such as government contracts, appropriations, human resources, property, records management, and procurement protest case files.

13. Department of Justice, Office of the Inspector General (N1-60-11-1, 1 item, 1 temporary item). Master files of an electronic information system used to track employee security information.

14. Department of Justice, Office of the Inspector General (N1-60-11-2, 5 items, 5 temporary items). Master files and outputs of an electronic information system containing current and historical employment data, complete personnel directories, and on duty and promotion date reports.

15. Department of Justice, Office of the Inspector General (N1-60-11-3, 2 items, 2 temporary items). Master files of an electronic information system used to monitor accepted and rejected proposals for evaluations and inspections.

16. Department of Justice, Office of Public Affairs (N1-60-10-13, 4 items, 2 temporary items). Records include press release materials and public awareness reports. Proposed for permanent retention are master copies of press releases and related indices.

17. Department of Labor, Employee Benefits Security Administration (N1-317-09-2, 13 items, 13 temporary items). Records of the Office of Enforcement, including investigative case files, application files, and miscellaneous records documenting intelligence efforts. Also included are inputs, master files, outputs, and system documentation of an electronic information system used to track case management operations.

18. Department of Labor, Employee Benefits Security Administration (N1-317-11-1, 8 items, 7 temporary items). Records of an electronic information system used to process annual reports of private pension and welfare plans. Records include inputs, master files, outputs, reports, web portal records, administrative and management records, and communication letters. Proposed for permanent retention are annual XML archive files of the system.

19. Department of Labor, Human Resources Center (N1-174-09-3, 36 items, 31 temporary items). Records used to provide guidance for administrative, program management, and information technology related functions. Proposed for permanent retention are organizational charts, architectural drawings, and major correspondence of the Secretary of Labor and senior-level officials.

20. Department of State, Bureau of East Asian and Pacific Affairs (N1-59-11-1, 2 items, 2 temporary items). Records of the Office of Public Diplomacy including subject and program files and annual small grant competition files.

21. Department of State, Bureau of Diplomatic Security (N1-59-10-11, 6 items, 6 temporary items). Records of the Office of Investigations and Counterintelligence Criminal Investigation Division, consisting of criminal investigation case files, internal and external MOAs and MOUs, program files, status reports, budget records related to the Department of Justice's asset forfeiture program, and records related to the Department of the Treasury's financial crimes enforcement program. The criminal investigations case files are related to an electronic system covered by N1-059-09-36. If the Department of State becomes aware of any significant or precedent-setting cases that warrant preservation, the Department will notify NARA and an independent appraisal of these cases will be conducted.

22. Department of State, Bureau of Diplomatic Security (N1-59-10-27, 1 item, 1 temporary item). Web site records of the Overseas Security Advisory Council, used to share information on overseas security issues such as travel warnings, critical incident reports, and current updates on country or regional events.

23. Department of the Treasury, Alcohol and Tobacco Tax and Trade Bureau (N1-564-09-8, 2 items, 2 temporary items). Master files of an electronic information system used to track beverage samples and test results.

24. Department of the Treasury, Internal Revenue Service (N1-58-10-16, 3 items, 3 temporary items). Master files and system documentation of an electronic information system used to monitor staff productivity and customer service in the field.

25. Department of the Treasury, Internal Revenue Service (N1-58-11-5, 2 items, 2 temporary items). Master files and system documentation of an electronic information system used to track requests for technical support for agency computer systems.

26. Federal Maritime Commission, Agency-wide (N1-358-10-2, 3 items, 3 temporary items). Reading files and subject files relating to operational or managerial activities for the Office of the Managing Director.

27. Federal Maritime Commission, Agency-wide (N1-358-11-1, 1 item, 1 temporary item). Master files of an electronic information system that collects and reports information concerning training employees have taken.

28. Federal Trade Commission, Bureau of Economics (N1-122-98-1, 2 items, 1 temporary item). Records of the Division of Industry Analysis, including working papers of analyses of cigarettes and the cigarette industry. Proposed for permanent retention are published and unpublished reports.

29. Department of Commerce, Patent and Trademark Office (N1-241-09-1, 35 items, 19 temporary items). Records of the Intellectual Property Administration, including rulemaking files, routine correspondence, subject files, administrative files for outreach programs, public advisory committees and operational legal activities. Proposed for permanent retention are the Director's action and subject files, Management Council records, successful nominations for the National Medal of Technology and Innovation Award, official records of public advisory committees, precedential court cases, patent appeal cases, Trademark Trial and Appeal Board case files, and attorney enrollment examinations.

Dated: March 16, 2011.
Sharon G. Thibodeau,
Deputy Assistant Archivist for Records Services—Washington, DC.

[FR Doc. 2011-6832 Filed 3-21-11; 8:45 am]

BILLING CODE 7515-01-P